DEPARTMENT OF EDUCATION

Race to the Top—District

AGENCY: Office of the Deputy Secretary, Department of Education.

ACTION: Notice reopening the Race to the Top—District competition.

Catalog of Federal Domestic Assistance (CFDA) Number: 84.416.

SUMMARY: The Secretary reopens the Race to the Top—District competition to extend the deadline for submitting applications. Hurricane Sandy prevented many applicants from submitting their applications by the October 30, 2012, deadline. The hurricane also closed Federal Government offices in Washington, DC, on October 29 and 30, 2012. The Department, therefore, could not receive applications on those days.

For local educational agencies located in States affected by Hurricane Sandy and for which the President has issued a major disaster declaration or an emergency declaration, the new deadline is 4:30 p.m. Washington, DC time on Wednesday, November 7, 2012. For local educational agencies everywhere else, the new deadline is 4:30 p.m. Washington, DC time on Friday, November 2, 2012.

DATES: Deadline for Transmittal of Applications:

For local educational agencies located in States affected by Hurricane Sandy and for which the President has issued either a major disaster declaration or an emergency declaration: November 7, 2012. For local educational agencies located everywhere else: November 2, 2012.

FOR FURTHER INFORMATION CONTACT: Meredith Farace, U.S. Department of Education, 400 Maryland Avenue SW., room 7e208, Washington, DC 20202-4260. Telephone: (202) 453-6800. Fax: (202) 401-1557.

If you use a telecommunications device for the deaf (TDD) or a text telephone (TTY), call the Federal Relay Service (FRS), toll free, at 1-800-877-8339.

SUPPLEMENTARY INFORMATION: On August 16, 2012, we published in the Federal Register (77 FR 49654) a notice inviting applications for the Race to the Top—District competition. That notice established an October 30, 2012, deadline for submitting applications. We are extending that deadline because Hurricane Sandy prevented many applicants from submitting their applications by that deadline. The hurricane also closed Federal Government offices in Washington, DC, on October 29 and 30, 2012. The Department, therefore, could not receive applications on those days. For local educational agencies located in States affected by Hurricane Sandy and for which the President has issued a major disaster declaration or an emergency declaration, the new deadline is 4:30 p.m. Washington, DC time on Wednesday, November 7, 2012. For local educational agencies located everywhere else, the new deadline is 4:30 p.m. Washington, DC time on Friday, November 2, 2012.

An eligible applicant that submitted an application by the October 30, 2012, deadline does not need to re-submit its application but may choose to do so. If you re-submit your application, we will consider the most recently submitted complete application.

All information in the August 16, 2012, notice for this competition remains the same, except for the change in the deadline for submitting applications. Information about the Race to the Top—District program is available on the Department's Web site at http://www2.ed.gov/programs/racetothetop-district/index.html.

Note: Applications for grants under this competition must be submitted in electronic format on a CD or DVD, with CD-ROM or DVD-ROM preferred, by mail or hand delivery. For complete information about how to submit an application, please refer to the Application and Submission Information section in the August 16, 2012, notice, available at http://www2.ed.gov/programs/racetothetop-district/index.html.

Individuals with disabilities can obtain this document and a copy of the application package in an accessible format (e.g., braille, large print, audiotape, or compact disc) by contacting the program person listed in this section.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department. Program Authority: Sections 14005 and 14006 of the ARRA (Pub. L. 111-5), as amended by section 1832(b) of Division B of the Department of Defense and Full-Year Continuing Appropriations Act, 2011 (Pub. L. 112-10), and the Department of Education Appropriations Act, 2012 (Title III of Division F of Pub. L. 112-74, the Consolidated Appropriations Act, 2012).

Dated: October 31, 2012.
Arne Duncan,
Secretary of Education.

[FR Doc. 2012-26915 Filed 10-31-12; 4:15 pm]

BILLING CODE 4000-01-P